DEPARTMENT OF HOMELAND SECURITY

Federal Emergency Management Agency

[Docket ID: [FEMA-2013-0023] OMB No. 1660-0113]

Agency Information Collection Activities: Proposed Collection; Comment Request

AGENCY: Federal Emergency Management Agency, DHS.

ACTION: Notice.

SUMMARY: The Federal Emergency Management Agency, as part of its continuing effort to reduce paperwork and respondent burden, invites the general public and other Federal agencies to take this opportunity to comment on a revision of a currently approved information collection. In accordance with the Paperwork Reduction Act of 1995, this notice seeks comments concerning the FEMA Preparedness Grants: Tribal Homeland Security Grant Program (THSGP).

DATES: Comments must be submitted on or before July 29, 2013.

ADDRESSES: To avoid duplicate submissions to the docket, please use only one of the following means to submit comments:

(1) Online. Submit comments at www.regulations.gov under Docket ID FEMA-2013-0023. Follow the instructions for submitting comments.

(2) Mail. Submit written comments to Docket Manager, Office of Chief Counsel, DHS/FEMA, 500 C Street SW., Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Latanya Watson, Program Specialist, FEMA, Grant Programs Directorate, 202-786-9540. You may contact the Records Management Division for copies of the proposed collection of information at facsimile number (202) 646-3347 or email address: FEMA-Information-Collections-Management@dhs.gov.

SUPPLEMENTARY INFORMATION: FEMA's Tribal Homeland Security Grant Program (THSGP) is authorized by Sections 2004 and 2005 of the Homeland Security Act of 2002, as amended by Section 101, Title I of the Implementing Recommendations of the 9/11 Commission Act of 2007, Public Law 110-53, (6 U.S.C. 605 and 606). THSGP provides supplemental funding to eligible Tribes to help strengthen the Nation against risks associated with potential terrorist attacks. THSGP supports building and sustaining capabilities through planning, equipment, training, and exercise activities. This law empowers the FEMA Administrator to make grant awards directly to eligible Tribes and requires the Administrator to accept appropriate application data submitted by eligible Tribes, including:

○ the purpose for which the Tribe seeks grant funds and the reasons why the Tribe needs the grant to meet its target capabilities;

○ a description of how the Tribe plans to implement the grant funds to fill gaps and address needs;

○ an indication of the National Preparedness Goal core capabilities that will be supported

○ an indication of the mission areas that will be supported

○ a budget showing how the Tribe intends to expend the grant funds; and

○ a directly eligible Tribe must provide a copy of its application to each State within which any part of the Tribe is located for review before the Tribe submits such application to the Department.

Collection of Information

Title: FEMA Preparedness Grants: Tribal Homeland Security Grant Program (THSGP).

OMB Number: 1660-0113.

Type of Information Collection: Revision of a currently approved information collection.

FEMA Forms: FEMA Form 089-22, THSGP—Tribal Investment Justification Template.

Abstract: The THSGP provides supplemental funding to directly eligible Tribes to help strengthen the nation against risks associated with potential terrorist attacks. This program provides funds to build capabilities at the State & local levels and implement goals and objectives included in state homeland security strategies.

Affected Public: State, Local, or Tribal Government.

Number of Respondents: 60.

Number of Responses: 60.

Estimated Total Annual Burden Hours: 18,010 hours.

Estimated Annualized Burden Hours and Costs
Type of respondent | Form name/Form No. | Number of respondents | Number of responses per respondent | Total number of responses | Average burden per response (in hours) | Total annual burden (in hours) | Average hourly wage rate | Total annual respondent cost
State, Local or Tribal Government | THSGP—Tribal Investment Justification Template/FEMA Form 089-22 | 60 | 1 | 60 | 300 | 18,000 | $38.14 | $686,520
State, Local or Tribal Government | Copy of Application provided to State prior to submission/No Form | 60 | 1 | 60 | *0.167 | 10 | 38.14 | 381.40
Total |  | 60 |  | 60 |  | 18,010 |  | 686,901.40
• Note: The “Avg. Hourly Wage Rate” for each respondent includes a 1.4 multiplier to reflect a fully-loaded wage rate.
* (10 minutes)

Estimated Cost: The estimated annual cost to respondents for the hour burden is $686,901.40. There are no annual costs to respondents operations and maintenance costs for technical services. There is no annual start-up or capital costs. The cost to the Federal Government is $393,041.00.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: May 20, 2013.
Charlene D. Myrthil,
Director, Records Management Division, Mission Support Bureau, Federal Emergency Management Agency, Department of Homeland Security.

[FR Doc. 2013-12573 Filed 5-24-13; 8:45 am]

BILLING CODE 9111-19-P